DEPARTMENT OF ENERGY

Federal Energy Regulatory Commission

[Project No. 2601-077]

Northbrook Hydro Carolina II, LLC; Notice of Revised Schedule for Environmental Review

On November 16, 2023, as supplemented on March 11, 2024, and April 30, 2024, Northbrook Hydro Carolina II, LLC filed an application to surrender the project license for the Bryson Hydroelectric Project No. 2601. The project is located on the Oconaluftee River in Swain County, North Carolina. The project does not occupy any Federal lands.

The project is located on the Oconaluftee River downstream of the Great Smoky Mountain National Park and the lands of the Eastern Band of Cherokee Indians (Qualla Boundary). The project boundary abuts the Qualla Boundary for 1.5 miles. The proposed mode of surrender would include disconnection from the utility interconnection point and the removal of the generators and turbines. The licensee would offer the generators, control equipment, and wiring for sale following decommissioning, or would properly dispose of the equipment. The proposal includes leaving the dam and associated structures intact and operational. The licensee intends to later deed ownership of the project to Mainspring Conservation Land Trust for potential future removal of the dam after the surrender is final.

Based on the limited number and scope of comments received on the Notice of Application Accepted for Filing, Commission staff is revising the schedule to issue an Environmental Assessment (EA) by November 15, 2024, and for the EA to be issued for a 15-day public comment period.¹ Revisions to the schedule may be made as appropriate. All comments filed on the EA will be reviewed by staff and considered in the Commission's final decision on the proceeding.

¹ On September 24, 2024, Commission staff issued a Notice of Intent to Prepare an Environmental Assessment, citing its planned schedule for issuance of the EA by January 31, 2025.

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Michael Calloway at 202-502-8041 or Michael.calloway@ferc.gov.

Dated: October 31, 2024.
Carlos D. Clay,
Acting Deputy Secretary.

[FR Doc. 2024-25848 Filed 11-6-24; 8:45 am]

BILLING CODE 6717-01-P